DEPARTMENT OF THE INTERIOR

Bureau of Land Management

[WO-310-1310-02-PB-24 1A]

OMB Approval Number 1004-0184; Information Collection Submitted to the Office of Management and Budget for Review Under the Paperwork Reduction Act

The Bureau of Land Management (BLM) has submitted the proposed collection of information listed below to the Office of Management and Budget (OMB) for approval under the provisions of the Paperwork Reduction Act (44 U.S.C. chapter 3501 et seq.). On July 31, 2001, the BLM published a notice in the Federal Register (66 FR 39527) requesting comments on the collection. The comment period ended October 1, 2001. No comments were received. You may obtain copies of the proposed collection of information and related explanatory material by contacting the BLM Information Clearance Officer at the telephone number listed below.

OMB is requred to respond to this request within 60 days but may respond after 30 days. For maximum consideration, your comments and suggestions on the requirement should be made within 30 days directly to the Office of Management and Budget, Interior Department Desk Officer (1004-0184), Office of Information and Regulatory Affairs, Washington, DC 20503. Please provide a copy of your comments to the Bureau Information Collection Clearance Officer (WO-630) 1849 C St., N.W., Mail Stop 401 LS, Washington, DC 20240.

Nature of Comments: We specifically request your comments on the following:

1. Whether the collection of information is necessary for the proper functioning of the Bureau of Land Management, including whether the information will have practical utility;

2. The accuracy of our estimates of the information collection burden, including the validity of the methodology and assumptions we use;

3. Ways to enhance the quality, utility, and clarity of the information collected; and

4. How to minimize the information collection burden on those who are to respond, including the use of appropriate automated, electronic, mechanical, or other technological collection techniques or other forms of information technology.

Title: Onshore Oil and Gas Leasing and Operations, 43 CFR Part 3100.

OMB Approval Number: 1004-09184.

Abstract: Federal and Indian (except Osage) oil and gas lessees and operators or operating rights owners are required to retain and/or provide data so that proposed operations may be approved or compliance with granted approvals may be monitored. Respondents are oil and gas companies, lessees, operators, operating rights owners, and individuals.

Form Number: None.

Frequency: On occasion; nonrecurring.

Description of Respondents: Individuals, small businesses, large corporations.

Estimated Completion Time: For ease of reference, this table summarizes the burden items in this information collection request:

Information collection | Requirement | Total respondents | Reporting hours per respondent | Total burden hours
3121.12 | Competitive leasing nomination | 1,400 | .25 | 350
3124.32 | Lease consolidation | 10 | 2 | 20
3125.11 | Lease exchange | 25 | .25 | 6.25
3103.10(aa); 3153.37 | LACT meter proving report | 200 | \1\ 10 | 33.33
3103.10(bb); 3154.33 | Gas charts; meter proving reports | 1,000 | .25 | 250
3103.10(dd) | Meter proving or calibration | 5,000 | \1\ 5 | 416.67
3103 | Oral notification | 6,000 | \1\ 5 | 500
3103.10(i) | • Construction start-up
3103.10(j) | • Spud notice
3103.10(m) | • Running surface casing; BOP test
3103.10(o) | • Reserve pit closure
3103.10(x) | • Theft; production mishandling
3103.10(z) | • LACT meter proving
3103.10(ee) | • Leak detection system
3103.10(ff) | • Produced water pit completion
3103.10(gg) | • Spill; accident
3103.10(ii) | • Well abandonment
3103.10(ll) | • Concentrations of H2S
3145.43
3136.10 | Drainage agreement | 5 | 10 | 50
3137.13 | Unit Agreement | 60 | 40 | 2,400
3137.64 | Participating Area | 45 | 12 | 540
3145.18 | Notice of Staking | 1,500 | .25 | 375
3145.51(a)(3) | Remediation | 100 | 5 | 500
3151.10(c) | Off-lease measurement | 300 | 1 | 300
3151.10(d) | Commingling | 500 | .5 | 250
3164.15 | Civil penalties | 100 | .5 | 50
3107.53 | Bond decrease | 100 | 1 | 100
3107.56 and 3145.23 | Bond increase | 6,600 | .5 | 3,300
Total |  | 22,945 |  | 9,441.25
\1\ In minutes.

Annual Responses: 22,945.

Annual Burden Hours: 9,441.

Bureau Clearance Officer: Michael H. Schwartz (202) 452-5033.

Dated: December 21, 2001.
Michael H. Schwartz,
Information Collection Clearance Officer, Bureau of Land Management.

[FR Doc. 02-2021 Filed 1-25-02; 8:45 am]

BILLING CODE 4310-84-M